NATIONAL FOUNDATION OF THE ARTS AND THE HUMANITIES

Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

DATE AND TIME: Thursday, November 30 2017, from 9:00 a.m. to 12:15 p.m. and 1:15 p.m. to 2:30 p.m. EST

Agenda: Thirty-Sixth Meeting of the National Museum and Library Service Board Meeting: 9:00 a.m.-12:15 p.m. Thirty-Sixth Meeting of the National Museum and Library Service Board Meeting:

I. Welcome and Director's Report

II. Approval of Minutes

III. Program Speaker

IV. Financial and Operations Report

V. Office of Museum Services Report

VI. Office of Library Report

VII. Office of Digital and Information Strategy Report

VIII. Special Report—Office of Communications

IX. Adjourn

(Open to the Public)

1:15 p.m. to 2:30 p.m.—Executive Session

(Closed to the Public)

PLACE: The meeting will be held at the IMLS Offices, Panel Room, Suite 4000, 955 L'Enfant Plaza North SW., Washington, DC 20024

FOR FURTHER INFORMATION CONTACT: Katherine Maas, Program Specialist, Institute of Museum and Library Services, Suite 4000, 955 L'Enfant Plaza North SW., Washington, DC 20024. Telephone: (202) 653-4798.

SUPPLEMENTARY INFORMATION: The National Museum and Library Services Board, which advises the Director of the Institute of Museum and Library Services on general policies with respect to the duties, powers, and authority of the Institute relating to museum, library and information services, will meet on November 30, 2017. The Thirty-Sixth Meeting on Thursday, November 30, 2017, from 9:00 a.m. to 12:15 p.m., is open to the public. The Executive Session, which will be held from 1:15-2:30 p.m., will be closed pursuant to subsections (c)(4) and (c)(9) of section 552b of Title 5, United States Code because the Board will consider information that may disclose: Trade secrets and commercial or financial information obtained from a person and privileges or confidential; and information the premature disclosure of which would be likely to significantly frustrate implementation of a proposed agency action.

If you need special accommodations due to a disability, please contact: Institute of Museum and Library Services, 955 L'Enfant Plaza North SW., Suite 4000, Washington, DC 20024, Telephone: (202) 653-4796, at least seven (7) days prior to the meeting date.

Dated: November 15, 2017.
Danette Hensley,
Staff Assistant, Office of General Counsel.

[FR Doc. 2017-25108 Filed 11-15-17; 4:15 pm]

BILLING CODE 7036-01-P